DEPARTMENT OF THE TREASURY

Internal Revenue Service

26 CFR Part 301

[REG-153338-09]

RIN 1545-BJ19

Disclosure of Returns and Return Information to Designee of Taxpayer; Hearing Cancellation

AGENCY: Internal Revenue Service (IRS), Treasury.

ACTION: Cancellation of a notice of public hearing on a proposed rulemaking.

SUMMARY: This document cancels a public hearing on a proposed rulemaking pertaining to the period for submission to the IRS of taxpayer authorizations permitting disclosure of returns and return information.

DATES: The public hearing, originally scheduled for June 9, 2011 at 10 a.m. is cancelled.

FOR FURTHER INFORMATION CONTACT: Funmi Taylor of the Publications and Regulations Branch, Legal Processing Division, Associate Chief Counsel (Procedure and Administration) at (202) 622-7180 (not a toll-free number).

SUPPLEMENTARY INFORMATION: A notice of proposed rulemaking and a notice of public hearing that appeared in the Federal Register on Friday, March 18, 2011 (76 FR 14827) announced that a public hearing was scheduled for June 9, 2011, at 10 a.m. in the IRS Auditorium, Internal Revenue Building, 1111 Constitution Avenue, NW., Washington, DC. The subject of the public hearing is under section 6103 of the Internal Revenue Code.

The public comment period for the proposed rulemaking expired on May 17, 2011. The notice of proposed rulemaking and notice of public hearing instructed those interested in testifying at the public hearing to submit an outline of the topics to be addressed. As of May 23, 2011, no one has requested to speak. Therefore, the public hearing scheduled for June 9, 2011, is cancelled.

LaNita VanDyke,
Chief, Publications and Regulations Branch, Legal Processing Division, Associate Chief Counsel, Procedure and Administration.

[FR Doc. 2011-13408 Filed 5-31-11; 8:45 am]

BILLING CODE 4830-01-P